DEPARTMENT OF COMMERCE

Census Bureau

Submission for OMB Review; Comment Request

The Department of Commerce will submit to the Office of Management and Budget (OMB) for clearance the following proposal for collection of information under the provisions of the Paperwork Reduction Act.

Agency: U.S. Census Bureau, Commerce.

Title: 2020 Census Post-Enumeration Survey Person Interview and Person Followup.

OMB Control Number: 0607-XXXX.

Form Number(s): D-1301, D-1301(PR), D-1400, D-1400(S), D-1709, D-1709(S), D-1409(E/S), D-1609(E/S).

Type of Request: Regular submission.

Number of Respondents: 293,250. This includes 190,000 housing units for Person Interview, 28,500 housing units for Person Interview Reinterview, 65,000 housing units for Person Followup, and 9,750 housing units for Person Followup Reinterview.

Average Hours per Response: 15 minutes.

Burden Hours: 73,313 hours.

Needs and Uses:

The Post-Enumeration Survey (PES) for the 2020 Census will be conducted to provide estimates of census net coverage error and components of census coverage (such as correct enumerations, omissions, and erroneous enumerations, including duplicates) for housing units and people living in housing units to improve future censuses. The primary sampling unit is the Basic Collection Unit, which is the smallest unit of collection geography for 2020 Census listing operations. As in the past, including the 2020 Census Coverage Measurement program, the Post-Enumeration Survey operations and activities must be conducted separate from and independent of the other 2020 Census operations.

The 2020 PES will use the dual-system estimation procedure, which depends on two independent systems of measurement. The independence between the PES and census operations is a fundamental necessity for dual-system estimation. The PES will comprise two independent enumerations of housing units and the household population within the same sample areas. These two enumerations are called the enumeration sample (E sample) and the population sample (P sample). The E sample contains the list of housing units and people enumerated in the 2020 Census within a sample of BCUs. The P sample contains housing units and people in the sample set of sample BCUs, but obtained independently from the census. The independent roster of housing units is obtained during the PES Independent Listing, while the independent roster of people is obtained during the PES Person Interview. The P sample housing units and people will be matched to all census housing units in the sample BCUs and surrounding BCUs.

The results of the housing unit matching operations will be used to determine which PES and census addresses will be eligible to go to the PES Person Followup operation. The Person Followup operation will contain approximately 190,000 sample addresses. The Person Interview Reinterview operation will be a sample of those cases with an estimate 28,500 sample addresses.

The computer-assisted PES Person Followup instrument will collect the following information for the housing units included in this operation:

1. Roster of people living at the housing unit at the time of the PES Person Followup operation.

2. Census Day (April 1, 2020) address information for people who moved into the sample address since Census Day.

3. Other addresses where a person may have been counted on Census Day.

4. Information to determine where each person should have been counted on Census Day (according to Census residence criteria). For example, interviewers will probe for people who might have been left off the household roster, ask additional questions about people who moved from another address on Census Day to the sample address, and collect additional information for people with multiple addresses.

5. Demographic information for each person in the household on Interview Day or Census Day. These data items include name, date of birth, age, sex, Hispanic origin, race, and relationship to the householder.

6. Name and above information for any person who has moved out of the sample address since Census Day (if known).

7. Tenure of the household or address status for unoccupied housing units.

The PES Person Interview Reinterview is a quality control operation that will be conducted on about 15 percent of the PES Person Interview cases. The purpose of the PES Person Interview Reinterview is to confirm that the PES Person Interview interviewer conducted a PES Person Interview with a household member or a proxy respondent and to conduct the complete PES Person Interview as needed if the original interview seems questionable.

For each case identified during matching with discrepancies between the PES Person Followup operation and census, the Census Bureau will conduct a PES Person Followup operation for selected people in the household. During the PES Person Followup operation, interviewers will use paper questionnaires to obtain information about the selected people. The PES Person Followup operation will collect the information needed to determine where each selected person should be counted on Census Day (according to 2020 Census residence rules). For example, interviewers will probe for additional addresses where the person may have stayed during the year and dates of stay for each address.

The PES Person Followup Reinterview is a quality control operation that will be conducted on about 15 percent of the PES PFU cases. The purpose of the PES Person Followup Reinterview is to confirm that the PES Person Followup interviewer conducted a PES Person Followup interview with a household member or a proxy respondent and to conduct the complete PES Person Followup interview as needed if the original interview seems questionable.

Affected Public: Individuals or Households.

Frequency: One Time.

Respondent's Obligation: Mandatory.

Legal Authority: Title 13, U.S. Code, Sections 141 and 193.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-24587 Filed 11-8-19; 8:45 am]

BILLING CODE 3510-07-P